DEPARTMENT OF COMMERCE

National Oceanic and Atmospheric Administration

RIN 0648-XF154

Marine Mammals; File Nos. 19703 and 20993

AGENCY: National Marine Fisheries Service (NMFS), National Oceanic and Atmospheric Administration (NOAA), Commerce.

ACTION: Notice; receipt of applications.

SUMMARY: Notice is hereby given that Fred Sharpe, Ph.D., Alaska Whale Foundation, 4739 University Way NE., #1230, Seattle, WA 98105 (File No. 19703) has applied in due form for a permit to conduct research on cetaceans and Christopher Cilfone, Be Blue, 2569 Douglas Hwy. Unit 1, Juneau, AK 99801 (File No. 20993) has applied in due form to conduct commercial/educational photography on humpback whales (Megaptera novaeangliae).

DATES: Written, telefaxed, or email comments must be received on or before February 16, 2017.

ADDRESSES: The application and related documents for File No. 19703 are available for review by selecting “Records Open for Public Comment” from the “Features” box on the Applications and Permits for Protected Species (APPS) home page, https://apps.nmfs.noaa.gov, and then selecting File No. 19703 from the list of available applications.

Documents for File No. 19703 and 20993 are also available upon written request or by appointment in the Permits and Conservation Division, Office of Protected Resources, NMFS, 1315 East-West Highway, Room 13705, Silver Spring, MD 20910; phone (301) 427-8401; fax (301) 713-0376.

Written comments on these applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application would be appropriate.

FOR FURTHER INFORMATION CONTACT: Carrie Hubard or Shasta McClenahan, (301) 427-8401.

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

Dr. Sharpe (File No. 19703) proposes to study humpback and killer (Orcinus orca) whales in Alaska using both vessel and aerial surveys and a variety of methods including photo-identification, passive and active acoustics, underwater video/photography, unmanned aircraft systems, prey mapping, and suction-cup tagging. The purpose of the research is to continue a long-term study of the behavior of Alaskan humpback whales, focusing on social structure, vocalizations, and feeding. Forty harbor porpoises (Phocoena phocoena), 50 Dall's porpoises (Phocoenoides dalli), 130 harbor seals (Phoca vitulina), and 80 Steller sea lions (Eumetopias jubatus) may be incidentally harassed during research activities. The permit would be valid for five years.

Mr. Cilfone (File No. 20993) proposes to film humpback whales in Hawaiian waters of the Maui Nui Basin. Footage would be used to create a film about humpback whales and their conservation success that would be available on multiple platforms. Boats, unmanned aircraft systems, pole cameras, and snorkelers would all be used to get footage. Fifty humpback whales would be approached annually. In addition, pantropical spotted (Stenella attenuata), spinner (S. longirostris), and bottlenose (Tursiops truncatus) dolphins may be incidentally harassed during filming operations. Filming would occur in winter and spring and the permit would be valid until May 2017.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the applications to the Marine Mammal Commission and its Committee of Scientific Advisors.

Dated: January 10, 2017.
Julia Harrison,
Chief, Permits and Conservation Division, Office of Protected Resources, National Marine Fisheries Service.

[FR Doc. 2017-00807 Filed 1-13-17; 8:45 am]

BILLING CODE 3510-22-P